DEPARTMENT OF JUSTICE

Antitrust Division

Notice Pursuant to the National Cooperative Research and Production Act of 1993—the Gypsum Association

Notice is hereby given that, on April 28, 2005, pursuant to Section 6(a) of the National Cooperative Research and Production Act of 1993, 15 U.S.C. 4301 et seq. (“the Act”), The Gypsum Association (“GA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: The Gypsum Association, Washington, DC. The nature and scope of GA's standards development activities are: The development or modification of ASTM International standards specific to the performance attributes of gypsum board and related materials.

Additional information concerning the standards development activities of GA is available at http://www.gypsum.org/.

Dorothy B. Fountain,
Deputy Director of Operations, Antitrust Division.

[FR Doc. 05-11016 Filed 6-2-05; 8:45 am]

BILLING CODE 4410-11-M